DEPARTMENT OF HEALTH AND HUMAN SERVICES

Centers for Disease Control and Prevention

[30DAY-36-00]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer; Human Resources and Housing Branch, New Executive Office Building, Room 10235; Washington, DC 20503. Written comments should be received within 30 days of this notice.

Proposed Projects

1. Congenital Syphilis (CS) Case Investigation and Report Form (0920-0128)—Extension—The Centers for Disease Control and Prevention (CDC) proposes to continue data collection for congenital syphilis case investigations under the Congenital Syphilis Case Investigation and Report Form (CDC 73.126 REV 11-98), currently approved under OMB No. 0920-0128. This request is for a 3-year extension of clearance. Reducing congenital syphilis is a national objective in the DHHS Report entitled Healthy People 2000: Mid-course Review and 1995 Revisions. Objective 19.4 of this document states the goal: “reduce congenital syphilis to an incidence of no more than 40 cases per 100,000 live births” by the year 2000. In order to meet this national objective, an effective surveillance system for congenital syphilis must be continued in order to monitor current levels of disease and progress towards the year 2000 objective. This data will also be used to develop intervention strategies and to evaluate ongoing control efforts.

Respondent burden is approximately 15 minutes per reported case. The estimated annual number of cases expected to be reported using the current case definition is 1,000 or less. Therefore, the total number of hours for congenital syphilis reporting required will be approximately 260 hours per year. The annualized cost to the respondents is $9,100 based on the average hourly wage of $35.00 per hour for respondents (clerical and nursing staff from 65 project areas).

Respondents | No. of respondents | No. of responses/ respondent | Avg. burden/response (in hrs.) | Total burden (in hrs.)
State and local health departments | 65 | 16 | 15/60 | 260
Total |  |  |  | 260

Dated: May 19, 2000.
Charles W. Gollmar,
Acting Associate Director for Policy, Planning and Evaluation, Centers for Disease Control and Prevention (CDC).

[FR Doc. 00-13245 Filed 5-25-00; 8:45 am]

BILLING CODE 4163-18-P